ELECTION ASSISTANCE COMMISSION

Publication of State Plans Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to HAVA State plans previously submitted by Alaska and Ohio.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual States at the address listed below.

SUPPLEMENTARY INFORMATION: On March 24, 2004, the U.S. Election Assistance Commission published in the Federal Register the original HAVA State plans filed by the 50 States, the District of Columbia and the Territories of American Samoa, Guam, Puerto Rico, and the U.S. Virgin Islands. 69 FR 14002. HAVA anticipated that States, Territories and the District of Columbia would change or update their plans from time to time pursuant to HAVA section 254 (a)(11) through (13). HAVA sections 254(a)(11)(A) and 255 require EAC to publish such updates.

The submissions from Alaska and Ohio address material changes in the administration of their original State plans and, in accordance with HAVA section 254(a)(12), provide information on how the State succeeded in carrying out the previous State plan. Ohio has received its 2003 and 2004 requirements payments. Alaska has not yet submitted a statement of certification for a requirements payment to EAC.

Upon the expiration of 30 days from April 7, 2005, these States will be eligible to implement any material changes addressed in the plans that are published herein, in accordance with HAVA section 254(a)(11)(C). At that time, in accordance with HAVA section 253(d), Alaska also may file a statement of certification to obtain its requirements payments. Such statements of certification must confirm that the State is in compliance with all of the requirements referred to in HAVA section 253(b) and must be provided to the Election Assistance Commission in order for the State to receive a requirements payment under HAVA Title II, Subtitle D.

EAC notes that plans published herein include only those that have already met the notice and comment requirements of HAVA section 256, as required by HAVA section 254(a)(11)(B). EAC wishes to acknowledge the effort that went into the revising the State plans and encourages further public comment, in writing, to the chief election official of the individual States at the address listed below.

Chief State Election Officials

Alaska

Ms. Laura A. Glaiser, Director, State of Alaska Division of Elections, PO

Box 110017, Juneau, AK 99811-0017, Phone: 907-465-4611, Fax: 907-465-3203, e-mail: elections@gov.state.ak.us.

Ohio

The Honorable J. Kenneth Blackwell, Secretary of State, 180 E. Broad Street, 16th Floor, Columbus, OH 43215, Phone: 614-466-2655, Fax: 614-644-0649, e-mail: election@sos.state.oh.us.

Thank you for your interest in improving the voting process in America.

Dated: March 30, 2005.
Gracia M. Hillman,
Chair, U.S. Election Assistance Commission.

BILLING CODE 6820-YN-P

[FR Doc. 05-6750 Filed 4-6-05; 8:45 am]

BILLING CODE 6820-YN-C